COMMODITY FUTURES TRADING COMMISSION

17 CFR Part 150

RIN 3038-AD82

Aggregation of Positions

Correction

In proposed rule document 2014-00496, appearing on pages 2394-2395, in the issue of Tuesday, January 14, 2014, make the following correction:

On page 2394, in the second column, the subject heading is corrected to read as set forth above.

[FR Doc. C1-2014-00496 Filed 1-21-14; 8:45 am]

BILLING CODE 1505-01-D